DEPARTMENT OF DEFENSE

GENERAL SERVICES ADMINISTRATION

NATIONAL AERONAUTICS AND SPACE ADMINISTRATION

[OMB Control No. 9000-0187; Docket No. 2019-0003; Sequence No. 23]

Submission for OMB Review; Reporting of Nonconforming Items to the Government-Industry Data Exchange Program

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a new information collection requirement regarding reporting certain counterfeit or suspect counterfeit parts and certain major or critical nonconformances to the Government-Industry Data Exchange Program system.

DATES: Submit comments on or before July 18, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0187, Reporting of Nonconforming Items to the Government-Industry Data Exchange Program.

Instructions: All items submitted must cite Information Collection 9000-0187, Reporting of Nonconforming Items to the Government-Industry Data Exchange. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Marilyn E. Chambers, Procurement Analyst, at telephone 202-285-7380, or marilyn.chambers@gsa.gov.

SUPPLEMENTARY INFORMATION:

A. OMB Number, Title, and any Associated Form(s)

OMB Control Number 9000-0187, Expanded Reporting of Nonconforming Items.

B. Needs and Uses

The goal of reporting counterfeit and suspect counterfeit items and common items that have a critical or major nonconformance into the Government-Industry Data Exchange Program (GIDEP) system is to avoid, detect, and address nonconforming or counterfeit parts in the supply chain. This information will be available to businesses for searching prior to placing orders, thus enabling the avoidance of purchasing counterfeit items in the first place.

C. Annual Burden

Respondents: 5,166.

Responses per Respondent: 1.

Total Annual Responses: 5,166.

Hours per Response: 6.

Total Burden Hours: 30,996.

D. Public Comment

A 60 day notice was published in the Federal Register at 79 FR 33164, on June 10, 2014, as part of a proposed rule under FAR Case 2013-002. Fourteen responses on the proposed rule were received, of which 4 respondents provided comments on the estimates in the information collection requirement, as addressed in the preamble of the Federal Register notice that published the proposed rule. The estimate of the burden changed due to public comment.

Several respondents stated that the burden is currently underestimated. According to one respondent, the estimate of 474,000 reports underestimates the potential burden of the expanded reporting requirements because it failed to account for the growth in GIDEP reporting entities and relies on the number of companies currently participating in GIDEP.

Various respondents commented that 3 hours per report was substantially underestimated. One respondent noted that any incident must be identified, investigated, and reported. Procedures need to be followed, individuals with expertise need to be consulted, tests need to be performed and reports to memorialize findings of the review need to be prepared and filed. Another respondent noted that a single report can take up to 100 hours to complete, including significant legal review. Another respondent commented that the “very low estimate” seems to ignore the significant time and costs associated with training, implementation, and the risks of liability.

DoD, GSA, and NASA have completely revised the estimated number of reports per year because the rule has been significantly de-scoped and data was also reviewed regarding the current number or participating contractors and the current number of reports submitted, resulting in an estimate of 51,657 participating contractors submitting 5,166 reports per year.

Industry already has all the information necessary to prepare a GIDEP report, based on existing quality assurance systems and procedures. However, in response to the industry comments, DoD, GSA, and NASA have reconsidered the number of estimated hours to prepare, review, and submit the report at an average of 6 hours per report.

Obtaining Copies: Requesters may obtain a copy of the information collection documents from the General Services Administration, Regulatory Secretariat Division (MVCB), 1800 F Street NW, Washington, DC 20405, telephone 202-501-4755. Please cite OMB Control No. 9000-0187, Reporting of Nonconforming Items to the Government-Industry Data Exchange Program, in all correspondence.

Dated: June 12, 2019.
Janet Fry,
Director, Federal Acquisition Policy Division, Office of Governmentwide Acquisition Policy, Office of Acquisition Policy, Office of Governmentwide Policy.

[FR Doc. 2019-12774 Filed 6-17-19; 8:45 a.m.]

BILLING CODE 6820-EP-P